NATIONAL SCIENCE FOUNDATION

National Science Board; Request for Public Comment on Use of Cost Sharing in National Science Foundation-Funded Activities

ACTION: Notice; request for public comment.

SUMMARY: On August 9, 2007, the America COMPETES Act directed the National Science Board (Board) of the National Science Foundation (NSF) to “evaluate the impact of its [2004] policy to eliminate cost sharing for research grants and cooperative agreements for existing programs that were developed around industry partnerships and historically required industry cost sharing, such as the Engineering Research Centers [ERCs] and Industry/University Cooperative Research Centers [I/UCRCs].” The Act directed that the Board “also consider the impact that the cost sharing policy has on initiating new programs for which industry interest and participation are sought.”

In fall 2007, the Board charged a Task Force on Cost Sharing to evaluate the impacts of its 2004 policy on the ERC and I/UCRC programs and also on the Experimental Program to Stimulate Competitive Research (EPSCoR), another NSF program with capacity-building goals. On February 8, 2008, the Board issued a report to Congress containing several recommendations regarding mandatory cost sharing policy at NSF (http://www.nsf.gov/nsb/publications/2008/rprt_congress_cs_policy.pdf ). The Board is continuing its study, focusing now on voluntary cost sharing and the impact of both mandatory and voluntary cost sharing on broadening the participation of traditionally underrepresented groups and organizations in federally sponsored research. The Board's intent is to release a second, more comprehensive report on NSF cost sharing policy in early 2009. Qualitative input from the research community for this report will be drawn in part from responses to this notice and from two public roundtable discussions held in Arlington, VA on July 9 and 10, 2008.

The Board is soliciting public comment regarding community experiences in cost sharing with emphasis on the following: (1) The relationship between cost sharing and NSF program goals; (2) the relationship between cost sharing and institutional competitiveness in NSF grant funding; (3) the role of cost sharing in the NSF merit review process; (4) the importance of types, sources, and timing of voluntary cost sharing; (5) effort associated with tracking and reporting cost-shared resources; (6) the relationship between cost sharing and institutional strategic investment; (7) options for ensuring equity in NSF grant funding when cost sharing is either required or volunteered; (8) research resources from state providers; and (9) research resources from industry providers.

Full text of questions can be found at http://www.nsf.gov/nsb/committees/cs/comment.jsp. Additional background material about the Task Force can be found at http://www.nsf.gov/nsb/committees/tskforce_cs.jsp.

DATES: Comments must be received by October 1, 2008.

ADDRESSES: Comments should be addressed to Jennifer Richards, Executive Secretary, Task Force on Cost Sharing, National Science Board Office, National Science Foundation, 4201 Wilson Boulevard, Suite 1220, Arlington, VA 22230; telephone (703) 292-7000; FAX (703) 292-9008; e-mail nsbcostsharing@nsf.gov. Due to potential delays in NSB's receipt and processing of mail sent through the U.S. Postal Service, we encourage respondents to submit comments electronically to ensure timely receipt. We cannot guarantee that comments mailed will be received before the comment closing date. Please include “Cost Sharing” in the subject line of the e-mail message, and your name, title, organization, postal address, telephone number, and e-mail address in the text of the e-mail message. Please also include the full body of your comments in the text of the e-mail message and as an attachment.

FOR FURTHER INFORMATION CONTACT: Jennifer Richards at the addresses noted above.

Ann Ferrante,
Writer-Editor, National Science Board Office.

[FR Doc. E8-18023 Filed 8-5-08; 8:45 am]

BILLING CODE 7555-01-P